DEPARTMENT OF COMMERCE

International Trade Administration

[C-533-839]

Notice of Countervailing Duty Order: Carbazole Violet Pigment 23 From India

AGENCY: Import Administration, International Trade Administration, Department of Commerce.

EFFECTIVE DATE: December 29, 2004.

FOR FURTHER INFORMATION CONTACT: Sean Carey or Addilyn Chams-Eddine, AD/CVD Operations, Office 6, Import Administration, U.S. Department of Commerce, Room 7866, 14th Street and Constitution Avenue, NW, Washington, DC 20230; telephone (202) 482-3964 and (202) 482-0648 respectively.

SUPPLEMENTARY INFORMATION:

Scope of the Order

The merchandise covered by this investigation is Carbazole Violet Pigment 23 (CVP-23) identified as Color Index No. 51319 and Chemical Abstract No. 6358-30-1, with the chemical name of diindolo [3,2-b:3′,2′-m] triphenodioxazine, 8,18-dichloro-5,15-diethy-5,15-dihydro-, and molecular formula of C34H22Cl2N4O2.¹ The subject merchandise includes the crude pigment in any form (e.g., dry powder, paste, wet cake) and finished pigment in the form of presscake and dry color. Pigment dispersions in any form (e.g., pigments dispersed in oleoresins, flammable solvents, water) are not included within the scope of the investigation.

¹ The bracketed section of the product description, [3,2-b:3′,2′-m], is not business proprietary information. In this case, the brackets are simply part of the chemical nomenclature. See December 4, 2003, amendment to petition (supplemental petition) at 8.

Countervailing Duty Order

In accordance with section 705(d) of the Tariff Act of 1930, as amended (the Act), on November 17, 2004, the Department published its final determination in the countervailing duty investigation of CVP-23 from India. See Final Affirmative Countervailing Duty Determination: Carbazole Violet Pigment 23 From India, 69 FR 67321 (November 17, 2004). On December 22, 2004, the United States International Trade Commission (USITC) notified the Department of its final determination, pursuant to section 705(b)(1)(A)(i) of the Act, that an industry in the United States suffered material injury as a result of subsidized imports of CVP-23 from India.

Therefore, countervailing duties will be assessed on all unliquidated entries of CVP-23 from India entered, or withdrawn from warehouse, for consumption on or after April 27, 2004, the date on which the Department published its preliminary affirmative countervailing duty determination in the Federal Register, and before August 26, 2004, the date the Department instructed the U.S. Customs and Border Protection (CBP) to discontinue the suspension of liquidation in accordance with section 703(d) of the Act, and on all entries of subject merchandise made on or after the date of publication of the USITC's final injury determination in the Federal Register. Section 703(d) of the Act states that the suspension of liquidation pursuant to a preliminary determination may not remain in effect for more than four months. Entries of CVP-23 made on or after August 26, 2004, and prior to the date of publication of the USITC's final injury determination in the Federal Register are not liable for the assessment of countervailing duties due to the Department's discontinuation, effective August 26, 2004, of the suspension of liquidation.

In accordance with section 706 of the Act, the Department will direct the CBP to reinstitute the suspension of liquidation for CVP-23 from India effective the date of the publication of USITC's final injury determination in the Federal Register and to assess, upon further advice by the Department pursuant to section 706(a)(1) of the Act, countervailing duties for each entry of the subject merchandise in an amount based on the net countervailable subsidy rate for the subject merchandise.

On or after the date of publication of the USITC's final injury determination in the Federal Register, CBP must require, at the same time as importers would normally deposit estimated duties on this merchandise, a cash deposit equal to the rate noted below. The cash deposit rates are as follows:

Producer/exporter | Net subsidy rate
Alpanil Industries Ltd | 17.57% ad valorem.
Pidilite Industries Ltd | 17.33 ad valorem.
AMI Pigments Pvt. Ltd | 33.61 ad valorem.
All Others | 20.55 ad valorem.

This notice constitutes the countervailing duty order with respect to CVP-23 from India, pursuant to section 706(a) of the Act. Interested parties may contact the Central Records Unit of the main Department building for copies of an updated list of countervailing duty orders currently in effect.

This countervailing duty order is issued and published in accordance with sections 706(a) and 705 of the Act and 19 CFR 351.211 and 351.224.

Dated: December 22, 2004.
Joseph A. Spetrini,
Acting Assistant Secretary for Import Administration.

[FR Doc. 04-28519 Filed 12-28-04; 8:45 am]

BILLING CODE 3510-DS-P